DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before May 20, 2024.

ADDRESSES: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington DC.

This notice of receipt of applications for special permit is published in accordance with part 107 of the Federal hazardous materials transportation law (49 U.S.C. 5117(b); 49 CFR 1.53(b)).

Issued in Washington, DC, on April 5, 2024.
Donald P. Burger,
Chief, General Approvals and Permits Branch.

Application number | Applicant | Regulation(s) affected | Nature of the special permits thereof
SPECIAL PERMITS DATA—Granted
10427-M | Astrotech Space Operations LLC | 173.61(a), 173.301(g), 173.302(a) | To modify the special permit to authorize additional hazardous materials and to increase the height in paragraph 7.b.(3)(viii) to 70 feet.
11379-M | ZF Passive Safety Systems US Inc | 173.302(a)(1), 173.301(a) | To modify the special permit to authorize reduced frequency of cylinder burst testing.
12116-M | Proserv UK Ltd | 173.201, 173.301(f), 173.302a, 173.304a | To modify the special permit to authorize an additional cylinder.
14981-M | Eclipse Aerospace, Inc | 173.335(a) | To modify the special permit to authorize an additional packaging.
20567-M | Omni Tanker Pty. Ltd | 107.503(b), 107.503(c), 172.102(c)(3), 173.241, 173.242, 173.243, 178.345-1, 178.347-1, 178.348-1 | To modify the special permit to authorize additional drawings and packaging specifications.
20936-M | CO2 Exchange LLC | 171.2(k), 172.200, 172.300, 172.700(a), 172.400, 172.500 | To modify the special permit to authorize different hazard communication information on a package marking and different reoffering provisions in paragraph 8.b.
21470-M | Honeywell Intellectual Properties Inc | 178.35(e), 178.44(a), 178.44(b), 178.44(c), 178.44(d), 178.44(e), 178.44(f)(1), 178.44(f)(2), 178.44(g), 178.44(h), 178.44(j)(1), 178.44(j)(2), 178.44(j)(3), 178.44(k), 178.44(l), 178.44(m), 178.44(n), 178.44(o), 178.44(p), 178.44(p)(1), 178.44(p)(2), 178.44(p)(2)(i), 178.44(p)(2)(ii), 178.44(p)(3), 178.44(p)(4), 178.44(q), 178.44(r)(1), 178.44(r)(2), 178.44(s) | To modify the special permit to remove drawing revision letters and allow incorporation of Class II Engineering Changes to improve manufacturing yield.
21510-N | ENK Co. Ltd | 173.302a(b)(2), 173.302a(b)(3), 173.302a(b)(4), 173.302a(b)(5), 180.205(c), 180.205(f), 180.205(i), 180.209(a), 180.213, 180.205(g) | To authorize the transportation in commerce of certain gases in DOT 3AA, 3AA, or 3T cylinders. The cylinders are retested by acoustic emission and ultrasonic examination (AE/UE) described in paragraph 7. below in place of the internal visual inspection and the hydrostatic retest required in § 180.205.
21541-N | S. C. Johnson & Son, Inc | 178.33-7 | To authorize the manufacture, mark, sale, and use of non-DOT specification containers conforming with all regulations applicable to a DOT specification 2P inner metal receptacle except for wall thickness, for the transportation in commerce of certain Division 2.1 aerosols.
21664-N | Champion Container Corporation | 173.158(f)(3) | To authorize the manufacture, mark, sale, and use of UN 4G specification packagings for the transport of nitric acid where the inner packagings are not further individually overpacked in tightly closed metal packagings.
21669-N | Versum Materials US, LLC | 173.302a(b)(5) | To authorize the one-time transportation of a cylinder pressurized to 110% of its marked service pressure, similar to DOT SP-6530.
21671-N | PPI Supplies LLC | 107.105(c)(2), 107.105(c)(3), 107.105(c)(4), 107.105(c)(7), 107.105(c)(8), 107.105(c)(14) | To authorize the transportation in commerce of certain used DOT Specification 3AL cylinders that contain carbon dioxide with alternative hazard communication.
21672-N | High Performance Helicopters Corp | 172.101(j), 172.301(c) | To authorize the transportation in commerce of gasoline by 14 CFR Part 133 cargo-only aircraft (rotorcraft external load operations) in which hazardous materials are attached to or suspended from the aircraft in remote areas of the U.S. only when other means of transportation are impracticable.
21675-N | Zoox, Inc | 173.185(a)(1), 173.220(d) | To authorize the transportation in commerce aboard cargo-only aircraft of battery-powered vehicles containing prototype and low production lithium ion batteries for testing.
21685-N | Kit Helicopter Operations LLC | 172.101(j), 172.200, 172.301(c), 175.75, 178.1 | To authorize the transportation in commerce of certain hazardous materials by 14 CFR Part 133 Rotorcraft External Load Operations transporting hazardous materials attached to or suspended from an aircraft in remote areas of the US only, without being subject to hazard communication requirements, quantity limitations and certain loading and stowage requirements.
21687-N | Scientific Design Company, Inc | 173.213 | To authorize the transportation in commerce of waste hazardous substances in non-DOT specification packaging.
21706-N | Call2Recycle, Inc | 172.401(a), 172.102(c), 172.303(a), 173.159(f), 173.159a(c)(2), 173.159a(d)(1) | To authorize the manufacture, mark, sale, and use of UN 1A2 metal drums for the transportation in commerce of cells and batteries, including those contained in or packed with equipment, for disposal or recycling purposes.
21730-N | Janssen Pharmaceutica | 172.101(j) | To authorize the transportation in commerce of certain Division 4.2 materials exceeding the quantity limitations by air.
SPECIAL PERMITS DATA—Denied
21662-N | Tank Traders Missouri | 180.215 | To authorize the transportation in commerce of propane cylinders where the visual inspection record is created in an alternative manner.
21665-N | Weilert Enterprises, Inc | 178.935(c)(1) | To authorize the manufacture, mark, sale, and use of UN 50D plywood large packagings each with a volumetric capacity greater than 3,000 L for the transportation in commerce of the hazardous materials authorized by this special permit.
21699-N | Alloy Products Corp | 178.69 | To authorize the manufacture, mark, sale, and use of UN specification drums intended for use as pressure vessels.
SPECIAL PERMITS DATA—Withdrawn
21689-N | FIBA Technologies, Inc | 178.35(b) | To authorize the use of statistical sampling for cylinder manufacturing in lieu of chemical analyses being conducted in the United States.
21712-N | Apple Inc | 172.101(j), 172 | To authorize the transportation in commerce of lithium batteries exceeding 35 kg by cargo-only aircraft.
21719-N | ERCO Worldwide (USA) Inc | 172.302(c), 173.26, 173.314(c), 179.13(b) | To authorize the transportation in commerce of tank cars containing chlorine in quantities that exceed the specified limits.
21732-N | Post Warehouse Corp | 173.224(b), 173.224(b) | To authorize the one-time transportation in commerce of N,N'-dinitrosopentamethylenetetramine (self-reactive material, Type C), in concentrations that exceed those authorized in 49 CFR 173.224(b) Self-Reactive Materials Table, for the purpose of disposal.

[FR Doc. 2024-08235 Filed 4-17-24; 8:45 am]

BILLING CODE 4909-60-P